DEPARTMENT OF THE INTERIOR

Bureau of Ocean Energy Management

[Docket No. BOEM-2022-0070]

Notice of Availability of a Draft Environmental Impact Statement for Park City Wind, LLC's Proposed Wind Energy Facility Offshore Massachusetts

AGENCY: Bureau of Ocean Energy Management (BOEM), Interior.

ACTION: Notice of availability; request for comments.

SUMMARY: BOEM announces the availability of the draft environmental impact statement (DEIS) for the construction and operations plan (COP) submitted by Park City Wind LLC (Park City) for its proposed New England Wind Project (Project) offshore Massachusetts. The DEIS analyzes the potential environmental impacts of the Project as described in the COP (the proposed action) and the alternatives to the proposed action. This notice of availability (NOA) announces the start of the public review and comment period, as well as the dates and times for public hearings on the DEIS. After BOEM holds the public hearings and addresses comments provided, BOEM will publish a final environmental impact statement (EIS). The EIS will inform BOEM's decision whether to approve, approve with modifications, or disapprove the COP.

DATES: Comments must be received no later than February 21, 2023. BOEM will conduct three virtual public hearings. BOEM's virtual public hearings will be held at the following times (eastern time).

• Friday, January 27, 2023; 1:00 p.m.

• Wednesday, February 1, 2023; 5:00 p.m.

• Monday, February 6, 2023; 5:00 p.m.

Registration for the virtual public hearings is required and may be completed here: https://www.boem.gov/renewable-energy/state-activities/new-england-wind-formerly-vineyard-wind-south or by calling (703) 787-1520. Meeting information will be sent to registrants via their email address provided during registration.

ADDRESSES: The DEIS and detailed information about the Project, including the COP, can be found on BOEM's website at: https://www.boem.gov/renewable-energy/state-activities/new-england-wind-formerly-vineyard-wind-south. Comments can be submitted in any of the following ways:

• Orally or in written form during any of the virtual public hearings identified in this NOA.

• In written form by mail or any other delivery service, enclosed in an envelope labeled “New England Wind COP DEIS” and addressed to Chief, Office of Renewable Energy Programs, Bureau of Ocean Energy Management, 45600 Woodland Road, Sterling, VA 20166.

• Through the regulations.gov web portal: Navigate to http://www.regulations.gov and search for Docket No. BOEM-2022-0070. Click on the “Comment” button below the document link. Enter your information and comment, then click “Submit Comment.”

For more information about submitting comments, please see “Information on Submitting Comments” under the SUPPLEMENTARY INFORMATION heading below.

FOR FURTHER INFORMATION CONTACT: Jessica Stromberg, BOEM Office of Renewable Energy Programs, 45600 Woodland Road, Sterling, Virginia 20166, (703) 787-1722 or jessica.stromberg@boem.gov.

SUPPLEMENTARY INFORMATION:

Proposed Action: Park City seeks approval to construct, operate, and maintain the Project: a wind energy facility and its associated export cables on the Outer Continental Shelf (OCS) offshore Massachusetts. The New England Wind Project would be developed within the range of design parameters outlined in the New England Wind COP, subject to applicable mitigation measures. Park City proposes to develop the lease area in two phases, known as Park City Wind (Phase 1) and Commonwealth Wind (Phase 2) (collectively, the New England Wind Project or Project). Park City proposes constructing and operating up to 129 wind turbines and up to 5 offshore electrical service platforms with a total of 5 offshore export cables under the terms of Renewable Energy Lease OCS-A 0534. The Project is located about 20 miles southwest of Martha's Vineyard, about 24 miles south of Nantucket, and adjacent to the southwest boundary of the BOEM-approved Vineyard Wind 1 energy project (Renewable Energy Lease OCS-A 0501). The onshore components of the Project will include up to three export cable landfalls in Massachusetts (one for Phase 1 and up to two for Phase 2) and up to three onshore substations: one in Barnstable County, Massachusetts, for Phase 1 and up to two in Barnstable or Bristol County, Massachusetts, for Phase 2.¹

¹ As part of the proposed action, Park City proposes two offshore export cable routes should technical, logistical, grid interconnection, or other unforeseen issues arise during the COP review and engineering processes that preclude use of its preferred route. If the route known as the South Coast Variant is used, an onshore substation and landfall would be located in Bristol County. Both proposed cable routes are included in the DEIS analysis.

Alternatives: BOEM considered 15 alternatives when preparing the DEIS and carried forward 3 alternatives for further analysis in the DEIS. These three alternatives include two action alternatives and the no action alternative. BOEM did not analyze in detail 12 of the alternatives because they did not meet the purpose and need for the proposed action or did not meet screening criteria, which are presented in chapter 2 of the DEIS. The screening criteria included consistency with law and regulations; technical and economic feasibility; environmental impact; and geographic considerations.

Availability of the DEIS: The DEIS, New England Wind COP, and associated information are available on BOEM's website at: https://www.boem.gov/renewable-energy/state-activities/new-england-wind-formerly-vineyard-wind-south. BOEM has distributed digital copies of the DEIS to all parties listed in the DEIS appendix N, which also includes the location of all libraries receiving a copy. If you require a flash drive or paper copy, BOEM will provide one upon request, as long as supplies are available. You may request a flash drive or paper copy of the DEIS by calling (703) 787-1520.

Cooperating Agencies: The following 18 Federal agencies, Tribal Nations, and State governmental entities participated as cooperating agencies in the preparation of the DEIS: Bureau of Safety and Environmental Enforcement; U.S. Environmental Protection Agency; National Marine Fisheries Service; U.S. Army Corps of Engineers; U.S. Coast Guard; U.S. Department of Defense; U.S. Department of the Navy; U.S. Fish and Wildlife Service; Wampanoag Tribe of Gay Head (Aquinnah); Mashpee Wampanoag Tribe; Mohegan Tribe of Connecticut; Mashantucket Pequot Tribal Nation; The Narragansett Indian Tribe; The Shinnecock Indian Nation; Delaware Tribe of Indians; Massachusetts Office of Coastal Zone Management; Rhode Island Coastal Resources Management Council; and New York State Department of State.

Information on Submitting Comments: BOEM does not consider anonymous comments. Please include your name and address as part of your comment. BOEM makes your comment, including your name and address, available for public review online and during regular business hours. You may request that BOEM withhold your name, address, or any other personally identifiable information (PII) included in your comment from the public record; however, BOEM cannot guarantee that it will be able to do so. If you wish your name, address, or other PII to be withheld, you must state your request prominently in a cover letter and explain the harm that you fear from its disclosure such as unwarranted privacy invasion, embarrassment, or injury. Even if BOEM withholds your information in the context of this notice, your comment is subject to the Freedom of Information Act (FOIA) and any relevant court orders. If your comment is requested under FOIA or a relevant court order, your information will only be withheld if a determination is made that one of the FOIA's exemptions to disclosure applies or if the relevant court order is challenged. Such a determination will be made in accordance with the Department of the Interior's FOIA regulations and applicable law.

Please label privileged or confidential information as “Contains Confidential Information,” and consider submitting such information as a separate attachment. Information that is not labeled as privileged or confidential may be regarded by BOEM as suitable for public release.

All submissions from organizations or businesses and from individuals identifying themselves as representatives or officials of organizations or businesses will be made available for public inspection in their entirety.

Authority: 42 U.S.C. 4231 et seq. (NEPA, as amended) and 40 CFR 1506.6.

Karen Baker,
Chief, Office of Renewable Energy Programs, Bureau of Ocean Energy Management.

[FR Doc. 2022-27826 Filed 12-22-22; 8:45 am]

BILLING CODE 4340-98-P